DEPARTMENT OF AGRICULTURE

Animal and Plant Health Inspection Service

[Docket No. APHIS-2016-0013]

Changes to the National Poultry Improvement Plan Program Standards

AGENCY: Animal and Plant Health Inspection Service, USDA.

ACTION: Notice of determination.

SUMMARY: We are updating the National Poultry Improvement Plan (NPIP) Program Standards. In a previous notice, we made available to the public for review and comment proposed changes to the NPIP Program Standards pertaining to the compartmentalization of primary poultry breeding establishments and approval of compartment components such as farms, feedmills, hatcheries, and egg depots. These changes will be added to the NPIP Program Standards.

DATES: Applicable February 12, 2019.

FOR FURTHER INFORMATION CONTACT: Dr. Denise Heard, DVM, Senior Coordinator, National Poultry Improvement Plan, VS, APHIS, USDA, 1506 Klondike Road, Suite 101, Conyers, GA 30094-5104; (770) 922-3496.

SUPPLEMENTARY INFORMATION: The National Poultry Improvement Plan (NPIP), also referred to below as “the Plan,” is a cooperative Federal-State-Industry mechanism for controlling certain poultry diseases. The Plan consists of a variety of programs intended to prevent and control poultry diseases.

The regulations in 9 CFR parts 56, 145, 146, and 147 (referred to below as the regulations) contain the provisions of the Plan. The Animal and Plant Health Inspection Service (APHIS) of the U.S. Department of Agriculture (USDA, also referred to as “the Department”) amends these provisions from time to time to incorporate new scientific information and technologies within the Plan.

Because changes in diagnostic science, testing technology, and best practices for maintaining sanitation are continual, and the rulemaking process can be lengthy, certain provisions of the Plan are contained in an NPIP Program Standards document ¹ rather than in the regulations. The NPIP Program Standards may be updated or revised via a notice-based process rather than by rulemaking.

¹ This document may be viewed on the NPIP website at http://www.poultryimprovement.org/documents/ProgramStandardsAugust2014.pdf, or by writing to the Service at National Poultry Improvement Plan, APHIS, USDA, 1506 Klondike Road, Suite 101, Conyers, GA 30094.

The regulations at 9 CFR 145.45, 145.74, and 145.84 provide the basis for compartmentalization of primary poultry breeding establishments. Compartmentalization is a procedure that a country may implement to define and manage animal subpopulations of distinct health status within its territory, in accordance with the guidelines in the World Organization for Animal Health (OIE) Terrestrial Animal Health Code, for the purpose of disease control and international trade.

On July 12, 2016, we published a notice ² in the Federal Register (81 FR 45121-45122, Docket No. APHIS-2016-0013) advising the public that we had prepared updates to the NPIP Program Standards. Specifically, we proposed to add provisions for compartmentalization of primary poultry breeding establishments and approval of compartment components, such as farms, feedmills, hatcheries, and egg depots. These proposed provisions included requirements for applying for compartmentalization of facilities and for facility design and management, as well as an outline of the auditing system APHIS proposed to use to evaluate compartments and their component operations.

² To view the notice and comments we received, go to http://www.regulations.gov/#!docketDetail;D=APHIS-2016-0013.

We solicited comments for 30 days ending on August 11, 2016. We received six comments by that date. They were from poultry breeders and suppliers of breeding stock, egg producers, and veterinarians. All the commenters supported our proposed updates.

We are making one minor editorial change to the compartmentalization provisions that we are adding to the NPIP Program Standards. Specifically, we are clarifying that visitors to farms, feedmills, hatcheries, and egg depots must agree in writing to follow company-established protocols regarding personal items and food.

Therefore, we are updating the NPIP Program Standards as described in our previous notice and in this document.

Paperwork Reduction Act

In accordance with section 3507(d) of the Paperwork Reduction Act of 1995 (44 U.S.C. 3501 et seq.), the information collection activities included in this notice will be approved by the Office of Management and Budget under control number 0579-0007.

E-Government Act Compliance

The Animal and Plant Health Inspection Service is committed to compliance with the E-Government Act to promote the use of the internet and other information technologies, to provide increased opportunities for citizen access to Government information and services, and for other purposes. For information pertinent to E-Government Act compliance related to this notice, please contact Ms. Kimberly Hardy, APHIS' Information Collection Coordinator, at (301) 851-2483.

Authority: 7 U.S.C. 8301-8317; 7 CFR 2.22, 2.80, and 371.4.

Done in Washington, DC, this 10th day of December 2018.
Kevin Shea,
Administrator, Animal and Plant Health Inspection Service.

[FR Doc. 2018-27068 Filed 12-13-18; 8:45 am]

BILLING CODE 3410-34-P